DEPARTMENT OF HEALTH AND HUMAN SERVICES

National Institutes of Health

National Institute of Nursing Research; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Nursing Research Special Emphasis Panel—Training and Career Development.

Date: September 29, 2015.

Time: 2:30 p.m. to 3:30 p.m.

Agenda: To review and evaluate grant applications.

Place: Division of Extramural Activities, National Institute of Nursing Research, National Institutes of Health, One Democracy Plaza, Room 703, 6701 Democracy Boulevard, Bethesda, MD 20892 (Telephone Conference Call).

Contact Person: Yujing Liu, Ph.D., MD, Chief, Office of Review, Division of Extramural Activities, National Institute of Nursing Research, National Institutes of Health, 6701 Democracy Boulevard, Suite 710, Bethesda, MD 20892, (301) 451-5152, yujing_liu@nih.gov.

Name of Committee: National Institute of Nursing Research Special Emphasis Panel— Biobehavioral and Technological Interventions to Attenuate Cognitive Decline in Individuals with Cognitive Impairment or Dementia.

Date: October 1, 2015.

Time: 11:00 a.m. to 1:00 p.m.

Agenda: To review and evaluate grant applications

Place: Division of Extramural Activities, National Institute of Nursing Research, National Institutes of Health, One Democracy Plaza, Room 703, Bethesda, MD 20892 (Telephone Conference Call).

Contact Person: Tamizchelvi Thyagarajan, Ph.D., Scientific Review Officer, National Institute of Nursing Research, National Institutes of Health, Suite 710, Bethesda, MD 20892, (301) 594-0343, tamizchelvi.thyagarajan@nih.gov.

Name of Committee: National Institute of Nursing Research Special Emphasis Panel—Training and Career Development.

Date: October 7, 2015.

Time: 12:00 p.m. to 1:00 p.m.

Agenda: To review and evaluate grant applications.

Place: Division of Extramural Activities, National Institute of Nursing Research, National Institutes of Health, One Democracy Plaza, Room 703, Bethesda, MD 20892 (Telephone Conference Call).

Contact Person: Yujing Liu, Ph.D., MD, Chief, Office of Review, National Institute of Nursing Research, National Institutes of Health, Suite 710, Bethesda, MD 20892, (301) 451-5152, yujing_liu@nih.gov.

Name of Committee: National Institute of Nursing Research Special Emphasis Panel—Self-Management for Health in Chronic Conditions.

Date: October 8, 2015.

Time: 2:00 p.m. to 4:00 p.m.

Agenda: To review and evaluate grant applications.

Place: National Institutes of Health, One Democracy Plaza, Room 703, 6701 Democracy Boulevard, Bethesda, MD 20892 (Telephone Conference Call).

Contact Person: Tamizchelvi Thyagarajan, Ph.D., Scientific Review Officer, National Institute of Nursing Research, National Institutes of Health, Suite 710, Bethesda, MD 20892, (301) 594-0343, tamizchelvi.thyagarajan@nih.gov.

(Catalogue of Federal Domestic Assistance Program Nos. 93.361, Nursing Research, National Institutes of Health, HHS)

Dated: August 26, 2016.
Michelle Trout,
Program Analyst, Office of Federal Advisory Committee Policy.

[FR Doc. 2015-21530 Filed 8-31-15; 8:45 am]

BILLING CODE 4140-01-P